ENVIRONMENTAL PROTECTION AGENCY

[OPPTS-140283; FRL-6495-1]

Access to Confidential Business Information by Syracuse Research Corporation

AGENCY: Environmental Protection Agency (EPA).

ACTION: Notice.

SUMMARY: EPA has authorized its contractor Syracuse Research Corporation (SRC), of Syracuse, New York, access to information which has been submitted to EPA under sections 4, 5, 6, 8, and 21 of the Toxic Substances Control Act (TSCA). Some of the information may be claimed or determined to be confidential business information (CBI).

DATES: Access to the confidential data submitted to EPA occurred as a result of an approved waiver dated January 27, 2000, which requested granting SRC immediate access to TSCA CBI. This waiver was necessary to allow SRC to assist the Risk Assessment Division by providing expertise in the Health and Environmental Sciences, including Biotechnology and Biostatistics; performing hazard and exposure assessments at the screening level; performing hazard assessments, risk assessments and characterization of new and existing chemicals; performing expert analysis of science issues and questions, to organize review panels/workgroups/workshop/symposia; assisting in developing test guidelines/standards; and providing automatic data processing and information management support and literature and translation support.

FOR FURTHER INFORMATION CONTACT: Joseph S. Carra, Acting Director, Environmental Assistance Division (7408), Office of Pollution Prevention and Toxics, Environmental Protection Agency, Ariel Rios Building, 1200 Pennsylvania Ave., NW., Washington, DC 20460, Rm. E-545, (202) 554-1404, TDD: (202) 554-0551; e-mail: TSCA-Hotline@epamail.epa.gov.

SUPPLEMENTARY INFORMATION:

I. Does this Notice Apply to Me?

This action is directed to the public in general. This action may, however, be of interest to “those persons who are or may be required to conduct testing of chemical substances under the Toxic Substances Control Act (TSCA).” Since other entities may also be interested, the Agency has not attempted to describe all the specific entities that may be affected by this action. If you have any questions regarding the applicability of this action to a particular entity, consult the person listed under “FOR FURTHER INFORMATION CONTACT.”

II. How Can I Get Additional Information, Including Copies of this Document or Other Related Documents?

Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

III. What Action is the Agency Taking?

Under contract number 68-W-00-069, contractor SRC of Merrill Lane, Syracuse, NY, will assist the Office of Pollution Prevention and Toxics (OPPT) by providing expertise in the Health and Environmental Sciences, including Biotechnology and Biostatistics performing hazard and exposure assessments at the screening level performing hazard assessments, risk assessments and characterization of new and existing chemicals performing expert analysis of science issues and questions, to organize review panels/workgroups/workshop/symposia assisting in developing test guidelines/standards and providing automatic data processing and information management support and literature and translation support.

In accordance with 40 CFR 2.306(j), EPA has determined that under EPA contract number 68-W-00-069, SRC will require access to CBI submitted to EPA under sections 4, 5, 6, 8, and 21 of TSCA to perform successfully the duties specified under the contract.

SRC personnel will be given access to information submitted to EPA under sections 4, 5, 6, 8, and 21 of TSCA. Some of the information may be claimed or determined to be CBI.

EPA is issuing this notice to inform all submitters of information under sections 4, 5, 6, 8, and 21 of TSCA that EPA may provide SRC access to these CBI materials on a need-to-know basis only. All access to TSCA CBI under this contract will take place at EPA Headquarters and SRC's Syracuse, NY and Arlington, VA facilities.

SRC will be authorized access to TSCA CBI at their facilities under the EPA TSCA Confidential Business Information Security Manual. Before access to TSCA CBI is authorized at SRC's sites, EPA will perform the required inspection of its facilities and ensure that the facilities are in compliance with the Manual.

Upon completing review of the CBI materials, SRC will return all transferred materials to EPA.

Clearance for access to TSCA CBI under this contract may continue until December 31, 2004.

SRC personnel will be required to sign nondisclosure agreements and will be briefed on appropriate security procedures before they are permitted access to TSCA CBI.

List of Subjects

Environmental protection, Acess to confidential business information.

Dated: February 23, 2000.
Deborah A. Williams,
Acting Director, Information Management Division, Pollution Prevention and Toxics.

[FR Doc. 00-5391 Filed 3-3-00; 8:45 am]

BILLING CODE 6560-50-F